ENVIRONMENTAL PROTECTION AGENCY

40 CFR Part 52

[EPA-R03-OAR-2010-0319; FRL-9164-3]

Approval and Promulgation of Air Quality Implementation Plans; Pennsylvania; Amendment to Consumer Products and Architectural and Industrial Maintenance Coatings Regulations

AGENCY: Environmental Protection Agency (EPA).

ACTION: Proposed rule.

SUMMARY: EPA is proposing to approve a State Implementation Plan (SIP) revision submitted by the Commonwealth of Pennsylvania concerning amendments to the Pennsylvania Consumer Products and Architectural and Industrial Maintenance Coatings Regulations. The revision amends 25 Pa. Code Chapter 130, Subchapters B and C (relating to consumer products and architectural and industrial maintenance (AIM) coatings) in order to reduce volatile organic compounds (VOCs). This action is being taken under the Clean Air Act (CAA).

DATES: Written comments must be received on or before July 21, 2010.

ADDRESSES: Submit your comments, identified by Docket ID Number EPA-R03-OAR-2010-0319 by one of the following methods:

A. http://www.regulations.gov. Follow the on-line instructions for submitting comments.

B. E-mail: fernandez.cristina@epa.gov.

C. Mail: EPA-R03-OAR-2010-0319, Cristina Fernandez, Office of Air Program Planning, Mailcode 3AP30, U.S. Environmental Protection Agency, Region III, 1650 Arch Street, Philadelphia, Pennsylvania 19103.

D. Hand Delivery: At the previously-listed EPA Region III address. Such deliveries are only accepted during the Docket's normal hours of operation, and special arrangements should be made for deliveries of boxed information.

Instructions: Direct your comments to Docket ID No. EPA-R03-OAR-2010-0319. EPA's policy is that all comments received will be included in the public docket without change, and may be made available online at http://www.regulations.gov, including any personal information provided, unless the comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through http://www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the electronic docket are listed in the http://www.regulations.gov index. Although listed in the index, some information is not publicly available, i.e., CBI or other information whose disclosure is restricted by statute. Certain other material, such as copyrighted material, is not placed on the Internet and will be publicly available only in hard copy form. Publicly available docket materials are available either electronically in http://www.regulations.gov or in hard copy during normal business hours at the Air Protection Division, U.S. Environmental Protection Agency, Region III, 1650 Arch Street, Philadelphia, Pennsylvania 19103. Copies of the State submittal are available at the Pennsylvania Department of Environmental Protection, Bureau of Air Quality Control, P.O. Box 8468, 400 Market Street, Harrisburg, Pennsylvania 17105.

FOR FURTHER INFORMATION CONTACT: Gregory Becoat, (215) 814-2036, or by e-mail at becoat.gregory@epa.gov.

SUPPLEMENTARY INFORMATION:

I. Background

On March 11, 2009, the Pennsylvania Department of Environmental Protection (PADEP) submitted a revision to its SIP for amendments to 25 Pa. Code Chapter 130, Subchapters B and C (relating to consumer products and AIM coatings). This SIP revision amends 25 Pa. Code Chapter 130, Subchapters B by adding VOC content limits for an additional 11 categories of consumer products and revising the VOC content limits for one category of consumer products currently regulated. The revision also adds definitions for approximately 30 new terms, including those that relate to the newly regulated product categories and amends definitions for approximately 75 existing terms in order to provide clarity. Additionally, the term “VOC—volatile organic compound” is added to Subchapter B.

The SIP revision changes the definition of the term “VOC—volatile organic compound” in Subchapter C (relating to AIM coatings) to mirror the definition of the term in 25 Pa. Code Chapter 121 (relating to definitions). This revision will make the most currently VOC exempt compounds available as tools to reduce ozone formation.

The standards and requirements contained in Pennsylvania's consumer products rule are consistent with the Ozone Transport Commission (OTC) model rule. The OTC consumer products model rule was based on the existing rules developed by the California Air Resources Board, which were analyzed and modified by the OTC workgroup to address VOC reduction needs in the Ozone Transport Region (OTR). Implementing this rule will result in SIP emission reductions in VOC to support the attainment demonstrations, and reductions in ground-level ozone in other areas of the OTR.

II. Summary of SIP Revision

This SIP revision consists of the following amendments:

1. Adds and/or amends definitions, terms, and sections in 25 Pa. Code Chapter 130, Subchapters B and C for clarity, style, format, and consistency with the OTC Model Rule and Federal definitions.

2. Adds and/or amends sections in 25 Pa. Code Chapter 130, Subchapter B in order to incorporate future changes in test procedures, delete an unnecessary reference to a California regulatory provision, delete and move definitions and terms, allow for the sell-through of product manufactured prior to applicable effective dates, update the product dating, establish the lowest applicable VOC limit requirements, require additional information on product containers, and establish requirements for a variance or alternative control plan (ACP).

3. Establishes under 25 Pa. Code Chapter 130, Subchapter B, applicability to any person who sells, supplies, offers for sale, or manufactures consumer products on and after applicable compliance dates.

4. Establishes under 25 Pa. Code Chapter 130, Subchapter B, the percentage of VOC by weight that cannot be exceeded for consumer products that are sold, supplied, offered for sale or manufactured for sale in the Commonwealth of Pennsylvania, and lists exemptions from the VOC limits. The rule also contains requirements for the following: (1) Products registered under FIFRA, (2) products requiring dilution, (3) sell-through of products, (4) aerosols adhesives, (5) charcoal lighter materials, and (6) floor wax strippers.

5. Establishes under 25 Pa. Code Chapter 130, Subchapter B, exemptions for the following: (1) Products for shipment and use outside the Commonwealth, (2) antiperspirants and deodorants, (3) products registered under FIFRA, (4) air fresheners, (5) adhesives, (6) bait station insecticides, and (7) fragrances.

6. Establishes under 25 Pa. Code Chapter 130, Subchapter B, applicability for ACPs for consumer products and criteria for innovative products exemption and requirements for waiver requests. The rule also contains grounds for requesting a variance, as well as applicability for ACPs for consumer products. ACPs for consumer products are provided by allowing responsible parties the option to voluntarily enter into separate ACP agreements for the consumer products mentioned above. In addition, the rule contains the following administrative requirements: (1) Product dating, (2) most restrictive limit, (3) labeling, and (4) recordkeeping and reporting, as well as test methods for demonstrating compliance.

7. Establishes under 25 Pa. Code Chapter 130, Subchapter C, the meaning of “VOC—volatile organic compound,” unless the context clearly indicates otherwise.

Further details of the Commonwealth of Pennsylvania's regulation revisions can be found in a Technical Support Document prepared for this proposed rulemaking action.

III. Proposed Action

EPA has determined that the revisions made to 25 Pa. Code Chapter 130, Subchapters B and C meet the SIP revision requirements of the CAA and is proposing to approve the amendments to Pennsylvania's Consumer Products and AIM Coatings Regulations. This revision will result in the reduction of VOC emissions in the Commonwealth of Pennsylvania. EPA is soliciting public comments on the issues discussed in this document. These comments will be considered before taking final action.

IV. Statutory and Executive Order Reviews

Under the Clean Air Act, the Administrator is required to approve a SIP submission that complies with the provisions of the Act and applicable Federal regulations. 42 U.S.C. 7410(k); 40 CFR 52.02(a). Thus, in reviewing SIP submissions, EPA's role is to approve State choices, provided that they meet the criteria of the Clean Air Act. Accordingly, this action merely proposes to approve State law as meeting Federal requirements and does not impose additional requirements beyond those imposed by State law. For that reason, this proposed action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the Clean Air Act; and

• Does not provide EPA with the discretionary authority to address, as appropriate, disproportionate human health or environmental effects, using practicable and legally permissible methods, under Executive Order 12898 (59 FR 7629, February 16, 1994).

In addition, this proposed rule, pertaining to Pennsylvania's amendment to 25 Pa. Code Chapter 130, Subchapters B and C (relating to Pennsylvania's Consumer Products and AIM Coatings Regulations), does not have Tribal implications as specified by Executive Order 13175 (65 FR 67249, November 9, 2000), because the SIP is not approved to apply in Indian country located in the State, and EPA notes that it will not impose substantial direct costs on Tribal governments or preempt Tribal law.

List of Subjects in 40 CFR Part 52

Environmental protection, Air pollution control, Ozone, Reporting and recordkeeping requirements, Volatile organic compounds.

Authority: 42 U.S.C. 7401 et seq.

Dated: June 7, 2010.
W.C. Early,
Acting Regional Administrator, Region III.

[FR Doc. 2010-14777 Filed 6-18-10; 8:45 am]

BILLING CODE 6560-50-P